DEPARTMENT OF ENERGY

Federal Energy Regulatory Commission

[Project Nos. 12514-087, 12514-089]

Northern Indiana Public Service Company LLC; Notice of Effectiveness of Withdrawal of Temporary Variance Requests

On September 13, 2021, Northern Indiana Public Service Company LLC (NIPSCO) filed a request for a temporary variance from the required surface elevation of Lake Shafer in Article 403 of the license for the Norway-Oakdale Project. On October 8, 2021, NIPSCO filed a request for a second temporary variance from the U.S. Fish and Wildlife Service's Technical Assistance Letter requirement that generation cease during an Abnormal Low Flow event to allow NIPSCO to continue its concrete restoration work at Oakdale Dam. On November 1, 2021, NIPSCO filed a notice of withdrawal of both temporary variance requests.

No motion in opposition to the notice of withdrawal has been filed, and the Commission has taken no action to disallow the withdrawal. Pursuant to Rule 216(b) of the Commission's Rules of Practice and Procedure,¹ the withdrawal of the temporary variance requests became effective on November 16, 2021, and this proceeding is hereby terminated.

¹ 18 CFR 385.216(b) (2020).

Dated: November 16, 2021.
Debbie-Anne A. Reese,
Deputy Secretary.

[FR Doc. 2021-25405 Filed 11-19-21; 8:45 am]

BILLING CODE 6717-01-P